SMALL BUSINESS ADMINISTRATION

[Disaster Declaration #12738 and #12739]

Nebraska Disaster Number NE-00041

AGENCY: U.S. Small Business Administration.

ACTION: Amendment 1.

SUMMARY: This is an amendment of the Presidential declaration of a major disaster for the State of Nebraska (FEMA-4013-DR), dated 08/12/2011.

Incident: Flooding.

Incident Period: 05/24/2011 through 08/01/2011.

Effective Date: 09/07/2011.

Physical Loan Application Deadline Date: 10/11/2011.

EIDL Loan Application Deadline Date: 05/14/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Nebraska, dated 08/12/2011 is hereby amended to include the following areas as adversely affected by the disaster:

Primary Counties: (Physical Damage and Economic Injury Loans): Lincoln, Nemaha, Richardson.

Contiguous Counties: (Economic Injury Loans Only):

Kansas: Brown, Doniphan, Nemaha.

Missouri: Atchison, Holt.

Nebraska: Custer, Dawson, Frontier, Hayes, Johnson, Keith, Logan, Mcpherson, Pawnee, Perkins.

All other information in the original declaration remains unchanged.

(Catalog of Federal Domestic Assistance Numbers 59002 and 59008)

James E. Rivera,
Associate Administrator for Disaster Assistance.

[FR Doc. 2011-23592 Filed 9-13-11; 8:45 am]

BILLING CODE 8025-01-P